NATIONAL SCIENCE FOUNDATION

Special Emphasis Panel in Physics; Notice of Meeting

In accordance with the Federal Advisory Committee Act (Pub. L. 92-463, as amended), the National Science Foundation announces the following meeting.

Name: Special Emphasis Panel in Physics (1208).

Date and Time: June 9, 2000 from 8:00 a.m. to 5:00 p.m.

Place: Department of Physics, Princeton University.

Type of Meeting: Closed.

Contact Person: Dr. Bradley D. Keister, Program Director for Nuclear Physics, Room 1015N, National Science Foundation, 4201 Wilson Blvd, Arlington, VA 22230, (703) 306-1891.

Purpose of Meeting: To provide advice and recommendations concerning the activities of the Princeton group in the development and Construction of the Borexino Solar neutrino detector.

Agenda: To hear presentations and write recommendations concerning the activities of the Princeton group development and Construction of the Borexino Solar neutrino detector.

Reason for Closing: The proposals being reviewed include information of a proprietary or Confidential nature, including technical information; information on personnel and proprietary data for Present and future subcontracts. These matters are exempt under 5 U.S.C. 552b(c), (4) and (6) of the Government in the Sunshine Act.

Dated: May 12, 2000.
Karen J. York,
Committee Management Officer.

[FR Doc. 00-12460 Filed 5-17-00; 8:45 am]

BILLING CODE 7555-01-M